DEPARTMENT OF THE INTERIOR

Fish and Wildlife Service

[FWS-R9-WSR-2012-N137; FVWF941009000007B-XXX-FF09W11000/FVWF51100900000-XXX-FF09W11000]

Information Collection Request Sent to the Office of Management and Budget (OMB) for Approval; Wildlife and Sport Fish Grants and Cooperative Agreements

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on August 31, 2012. We may not conduct or sponsor and a person is not required to respond to a collection of information unless it displays a currently valid OMB control number. However, under OMB regulations, we may continue to conduct or sponsor this information collection while it is pending at OMB.

DATES: You must submit comments on or before July 9, 2012.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS 2042-PDM, 4401 North Fairfax Drive, Arlington, VA 22203 (mail), or INFOCOL@fws.gov (email). Please include “1018-0109” in the subject line of your comments.

FOR FURTHER INFORMATION CONTACT: To request additional information about this ICR, contact Hope Grey at INFOCOL@fws.gov (email) or 703-358-2482 (telephone). You may review the ICR online at http://www.reginfo.gov. Follow the instructions to review Department of the Interior collections under review by OMB.

SUPPLEMENTARY INFORMATION: OMB Control Number: 1018-0109.

Title: Wildlife and Sport Fish Grants and Cooperative Agreements, 80, 81, 84, 85, and 86.

Service Form Number: None.

Type of Request: Extension of a currently approved collection.

Description of Respondents: States; the Commonwealths of Puerto Rico and the Northern Mariana Islands; the District of Columbia; the territories of Guam, U.S. Virgin Islands, and American Samoa; federally-recognized tribal governments; institutions of higher education; and nongovernmental organizations.

Respondent's Obligation: Required to obtain or retain a benefit.

Frequency of Collection: We require applications annually for new grants. We require amendments on occasion when key elements of a project change. We require quarterly and final performance reports in the National Outreach and Communication Program and annual and final performance reports in the other programs. We may require more frequent reports under the conditions stated at 43 CFR 12.52 and 43 CFR 12.914.

Activity | Number of respondents | Number of responses | Completion time per response (in hours) | Total annual burden hours
Initial Application (project narrative) | 200 | 2,500 | 40 | 100,000
Revision of Award Terms (Amendment) | 150 | 1,500 | 2 | 3,000
Performance Reports | 200 | 3,500 | 6 | 21,000
Totals | 550 | 7,500 |  | 124,000

Abstract: The Wildlife and Sport Fish Restoration Program (WSFR), U.S. Fish and Wildlife Service, administers financial assistance programs (see 77 FR 3489, January 24, 2012). We award most financial assistance as grants, but cooperative agreements are possible if the Federal Government will be substantially involved in carrying out the project. You can find a description of most programs in the Catalog of Federal Domestic Assistance.

To apply for financial assistance funds, you must submit an application that describes in substantial detail project locations, benefits, funding, and other characteristics. Materials to assist applicants in formulating project proposals are available on Grants.gov. We use the application to determine:

• Eligibility for the grant.

• Scale of resource values or relative worth of the project.

• Effect of the project on environmental and cultural resources.

• How well the proposed project will meet the purposes of the program's establishing legislation.

Persons or entities receiving grants must submit periodic performance reports that contain information necessary for us to track costs and accomplishments.

Comments: On January 24, 2012, we published in the Federal Register (77 FR 3489) a notice of our intent to request that OMB renew approval for this information collection. In that notice, we solicited comments for 60 days, ending on March 26, 2012. We received one comment. The commenter objected to the funding of these grants, but did not address the information collection requirements. We did not make any changes to our requirements.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: May 31, 2012.
Tina A. Campbell,
Chief, Division of Policy and Directives Management, U.S. Fish and Wildlife Service.

[FR Doc. 2012-13792 Filed 6-6-12; 8:45 am]

BILLING CODE 4310-55-P